DEPARTMENT OF DEFENSE

Office of the Secretary

Defense Science Board

AGENCY: Department of Defense.

ACTION: Notice of advisory committee meeting date change.

SUMMARY: On Friday, February 7, 2003 (68 FR 6421), the Department of Defense announced closed meetings of the Defense Science Board (DSB) Task Force on Future Strategic Strike Forces. The meeting originally scheduled for June 18-19, 2003, has been moved to June 12-13, 2003. The meeting will be held at Strategic Analysis, Inc., 3601 Wilson Boulevard, Suite 600, Arlington, VA.

Dated: April 16, 2003.
Patricia L. Toppings,
Alternate OSD Federal Register Liaison Officer, Department of Defense.

[FR Doc. 03-9961 Filed 4-22-03; 8:45 am]

BILLING CODE 5001-08-M